FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
Transactions Granted Early Termination—07/08/2002
20020908 | Southern Wines & Spirits of America, Inc | Anthony Terlato | Pacific/Southern Wine & Spirits of Illinois, LLC.
20020912 | Philadelphia Suburban Corporation | Pennichuck Corporation | Pennichuck Corporation.
20020918 | Staples, Inc. | FS Equity Partners IV, L.P | Medical Arts Press, Inc.
20020922 | The Southern Company | The New Power Company | The New Power Company.
20020923 | General Electric Company | Ralph Stern | CareCredit LLC
20020927 | J.W. Childs Equity Partners III, L.P | Esselte AB | Esselte AB
20020932 | Richard B. Cohen | Koninklijke Ahold N.V. | Tops Markets, LLC
Transactions Granted Early Termination—07/09/2002
20020886 | AT&T Broadband Corp. | Susquehanna Pfaltzgraff Co | Casco Cable Television Inc. SBC Cable Co. Susquehanna Cable Company. York Cable Television, Inc.
20020894 | Group 1 Automotive, Inc | Michael E. Miller | Miller Automotive Group, Inc.
20020903 | AmerisourceBergen Corporation | Robert L. Fisher | Automed Technologies, Inc.
20020910 | BellSouth Corporation | Republican Technologies Integrated LLC | Republic Technologies Integrated LLC
20020913 | DLJ Merchant Banking Partners III, L.P | Seabulk International Inc | Seabulk International Inc.
20020920 | Warburg Pincus Private Equity VIII, L.P | Proxim Corporation | Proxim Corporation
20020931 | General Electric Company | The Williams Companies, Inc | Williams Gas Processing—Kansas Hugoton Company.
Transactions Granted Early Termination—07/10/2002
20020897 | Enbridge Energy Partners, L.P | Enbridge Inc. | Enbridge Midcoast Energy, Inc.
20020909 | Providence Equity Partners IV L.P | Krause Publication, Inc. Employee Stock Ownership Plan | Krause Publication, Inc.
Transactions Granted Early Termination—07/11/2002
20020916 | Providence Equity Partners IV L.P | Lewis T. Teffeau | Communications Concepts, Inc., Database Marketing Solutions, Inc. Mail-Gard Concepts, Inc. Marketing Communication Systems of Delaware, Inc. Marketing Communication Systems, Inc. Pacific Communication Concepts, Inc.,
20020929 | Bemis Company, Inc | E.I. du Pont de Nemours and Company | E.I. du Pont de Nemours and Company.
Transactions Granted Early Termination—07/12/2002
20020317 | Amgen Inc. | Immunex Corporation | Immunex Corporation
20020915 | Sempra Energy | TNP Enterprises, Inc. | Texas Generating Company L.P. Texas-New Mexico Power Company.
20020933 | The St. Paul Companies, Inc. | Old Mutual plc | NWQ Investment Management Co., Inc.
20020940 | Newhouse Broadcasting Corporation | AOL Time Warner Inc. | Time Warner Entertainment Advance/Newhouse Partnership
20020942 | Vestar Capital Partners IV, L.P | Pro-Fac Cooperative, Inc | Agrilink Foods, Inc.
20020945 | Francisco Partners, L.P | General Electric Company | GE Information Services, Inc. RMS Electronic Commerce Systems, Inc.
20020947 | Code, Hennessy & Simmons IV, L.P. | Atlantic Equity Partners International II L.P. | Otis Spunkmeyer, Inc.
20020950 | AOL Timer Warner, Inc | AOL Time Warner, Inc. | Time Warner Entertainment Advance/Newhouse Partnership.
Transactions Granted Early Termination—07/15/2002
20020778 | FPL Group Inc. | BayCorp Holdings, Ltd. | BayCorp Holdings, Ltd.
20020781 | FPL Group, Inc. | Northeast Utilities | Northeast Utilities.
20020782 | FPL Group, Inc. | UIL Holdings Corporation | UIL Holdings Corporation.
20020783 | FPL Group, Inc. | The National Grid Group PLC | The National Grid Group PLC.
20020875 | Pliva d.d. | Sobel N.V. | Sobel Holdings Inc.
20020919 | J.P. Morgan Chase & Co | Atlantic Equity Partners International, II, L.P | BPC Holdings Corporation.
20020921 | Public Service Enterprise Group Inc | Wisconsin Energy Corp | Wisvest-Connecticut, LLC.
Transactions Granted Early Termination—07/17/2002
20020943 | Intuit, Inc. | Eclipse, Inc. | Eclipse, Inc.
20020953 | The News Corporation Limited | The News Corporation Limited | Affiliated Regional Communications, Ltd. ARC Holding, Ltd. Fox Sports Net National Network Holdings, LLC. Fox Sports Net Rocky Mountain LLC Liberty/Fox ARC, L.P. Prime Network LLC
20020959 | MDCP IV Global Investments LP | Jefferson Smurfit Group plc | Jefferson Smurfit Group plc.
Transactions Granted Early Termination—07/18/2002
20020951 | State Street Corporation | James Kelly | International Fund Services (N.A.), L.L.C. Investment Management Services, Inc.
Transactions Granted Early Termination—07/19/2002
20020935 | Daniel Gilbert | Intuit Inc. | Quicken Loans, Inc. Title Source, Inc.
20020954 | AT&T Wireless Services, Inc | AT&T Wireless Services, Inc | Boise City Cellular Partnership.
20020955 | AT&T Wireless Services, Inc | AT&T Wireless Services, Inc | Greeley Cellular Telephone Company.
20020957 | EPCOR Utilities, Inc. | Duke Energy Corporation | Frederickson Power L.P. Frederickson Power Management, Inc.
20020963 | Francisco Partners, L.P | Agere Systems Inc | Agere Systems Inc.
20020964 | The Katz Trust | Phar-Mor, Inc. | Phar-Mor, Inc.
20020969 | First Data Corporation | BP p.l.c. | PayPoint Electronic Payment Systems, Inc.
20020973 | Elkem ASA | Sapa AB | Sapa AB.
20020980 | Kelso Investment Associates VI, L.P | Nortek Holding, Inc | Nortek Holding, Inc.

FOR FURTHER INFORMATION CONTACT: Sandra M. Peay, Contact Representative, Federal Trade Commission, Premerger Notification Office, Bureau of Competition, Room 303, Washington, DC 20580. (202 326-3100.

By Direction of the Commission.
Donald S. Clark,
Secretary.

[FR Doc. 02-20336 Filed 8-9-02; 8:45 am]

BILLING CODE 6750-01-M